DEPARTMENT OF ENERGY

Federal Energy Regulatory Commission

[Project No. 2756-064]

Winooski One Partnership City of Burlington, Vermont; Notice of Application for Transfer of License and Soliciting Comments and Motions To Intervene

On June 20, 2014, Winooski One Partnership (transferor) and the City of Burlington, Vermont (transferee) filed an application for transfer of license of the Chace Mill Project located on the Winooski River in Chittenden County, Vermont.

The transferor and transferee seek Commission approval to transfer the license for the Chace Mill Project from the transferor to the transferee.

Applicant Contacts: For Transferor: Mr. Mathew Rubin, Managing General Partner, Winooski One Partnership, 26 State Street, Montpelier, Vermont 05602, Phone: 802-229-4666, email: wind@easthavenwindfarm.com and Ms. Catherine P. McCarthy, Bracewell & Giuliani LLP, 2000 K Street NW., Suite 500, Washington, DC 20006, Phone: 202-828-5839, email: cathy.mccarthy@bgllp.com. For Transferee: Mr. Kenneth A. Nolan, Manager of Power Resources, Burlington Electric Department, 585 Pine Street, Burlington, Vermont, Phone: 802-658-0300, email: knolan@burlingtonelectric.com, Mr. William F. Ellis, McNeil, Leddy & Sheahan, 271 South Union Street, Burlington, Vermont 05401, Phone: 802-863-4531, email: wellis@mcneilvt.com., and Mr. William S. Huang and Ms. Rebecca J. Baldwin, Spiegel & McDiarmid LLP, 1875 Eye Street NW., Suite 700, Washington, DC 20006, Phone: 202-879-4000, emails: william.huang@spiegelmcd.com and rebecca.baldwin@spiegelmcd.com.

FERC Contact: Patricia W. Gillis, (202) 502-8735.

Deadline for filing comments and motions to intervene: 30 days from the issuance date of this notice, by the Commission. The Commission strongly encourages electronic filing. Please file motions to intervene and comments using the Commission's eFiling system at http://www.ferc.gov/docs-filing/efiling.asp. Commenters can submit brief comments up to 6,000 characters, without prior registration, using the eComment system at http://www.ferc.gov/docs-filing/ecomment.asp.

You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2756-064.

Dated: July 8, 2014.
Kimberly D. Bose,
Secretary.

[FR Doc. 2014-16437 Filed 7-14-14; 8:45 am]

BILLING CODE 6717-01-P